ENVIRONMENTAL PROTECTION AGENCY

[EPA-HQ-OAR-2010-1059; FRL-9484-6]

Guidance for 1-Hour SO2 SIP Submissions

AGENCY: Environmental Protection Agency (EPA).

ACTION: Notice of Extension of Comment Period.

SUMMARY: The EPA is announcing an extension of the public comment period for its draft non-binding guidance titled, “Guidance for 1-Hour SO2 SIP Submissions.” The draft of the guidance document is currently on the EPA's Web site. The EPA is extending the comment period for an additional 30-day period and invites public comments on this guidance during this period. The EPA plans to issue an updated version of the guidance after reviewing timely submitted comments.

DATES: Comments must be received on or before December 2, 2011.

ADDRESSES: Submit your comments, identified by Docket ID No. EPA-HQ-OAR-2010-1059, by one of the following methods:

• http://www.regulations.gov. Follow the on-line instructions for submitting comments.

• Email: a-and-r-docket@epa.gov. Attention Docket ID No. EPA-HQ-OAR-2010-1059.

• Fax: (202) 566-9744. Attention Docket ID No. EPA-HQ-OAR-2010-1059.

• Mail: Air Docket, Attention Docket ID No. EPA-HQ-OAR-2010-1059, Environmental Protection Agency, Mail Code: 6102T, 1200 Pennsylvania Ave., NW., Washington, DC 20460.

• Hand Delivery: EPA Docket Center, 1301 Constitution Avenue NW., Room 3334, Washington, DC. Such deliveries are only accepted during the Docket Center's normal hours of operation, and special arrangements should be made for deliveries of boxed information.

Instructions: Direct your comments to Docket ID No. EPA-HQ-OAR-2010-1059. The EPA's policy is that all comments received will be included in the public docket without change and may be made available online at http://www.regulations.gov, including any personal information provided, unless the comment includes information claimed to be Confidential Business Information (CBI) or other information whose disclosure is restricted by statute. Do not submit information that you consider to be CBI or otherwise protected through regulations.gov or email. The http://www.regulations.gov Web site is an ”anonymous access” system, which means the EPA will not know your identity or contact information unless you provide it in the body of your comment. If you send an email comment directly to the EPA without going through http://www.regulations.gov, your email address will be automatically captured and included as part of the comment that is placed in the public docket and made available on the Internet. If you submit an electronic comment, the EPA recommends that you include your name and other contact information in the body of your comment and with any disk or CD-ROM you submit. If the EPA is unable to read your comment and contact you for clarification due to technical difficulties, the EPA may not be able to consider your comment. Electronic files should avoid the use of special characters, any form of encryption, and be free of any defects or viruses. For additional information about the EPA's public docket, visit the EPA Docket Center homepage at http://www.epa.gov/epahome/dockets.htm. For additional instructions on submitting comments, go to Section I of the SUPPLEMENTARY INFORMATION section of this document.

Docket: All documents in the docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy at the EPA Docket Center, EPA West, Room 3334, 1301 Constitution Avenue NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: For questions concerning this action, please contact Larry D. Wallace, Ph.D., U.S. EPA, Office of Air Quality Planning and Standards, Air Quality Policy Division, C504-03, Research Triangle Park, NC 27711, telephone (919) 541-0906, email at wallace.larry@epa.gov.

SUPPLEMENTARY INFORMATION:

I. General Information

A. What should I consider as I prepare my comments for EPA?

1. Submitting CBI. Do not submit this information to the EPA through http://www.regulations.gov or email. Clearly mark the part or all of the information that you claim to be CBI. For CBI information in a disk or CD ROM that you mail to the EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2. Send or deliver information identified as CBI only to the following address: Roberto Morales, OAQPS Document Control Officer (C404-02), U.S. EPA, Research Triangle Park, NC 27711, Attention Docket ID No. EPA-HQ-OAR-2010-1059.

2. Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

Make sure to submit your comments by the comment period deadline identified.

II. Background

The purpose of this notice is to extend the public comment period on the EPA's recently posted draft non-binding guidance titled, “Guidance for 1-Hour SO2 SIP Submissions.” The comment period notice published in the Federal Register on October 3, 2011 at 76 FR 61098. The original comment period is scheduled to expire on November 2, 2011. By this notice, the EPA is extending the comment period for an additional 30 days resulting in the comment period ending on December 2, 2011. The EPA is extending the comment period due to public requests that have been made stating that additional time is required in order to fully evaluate the guidance and provide substantive comment.

While the EPA is providing additional time for the public to submit comments on the draft guidance, we are also taking into consideration that there is a need to finalize the guidance as quickly as possible so that states, tribes, and air agencies have the necessary information to begin work on their State Implementation Plans submittals to address 1-hour SO2 NAAQS. We are therefore working to assure that the delays that result from this extension of the comment period on the draft guidance are kept to a minimum. In addition, as stated in the draft guidance, the EPA is also currently drafting a proposed rulemaking on specific elements of the draft guidance concerning the elements necessary for the section 110(a)(1) maintenance plan submittal. Since these two documents are linked in terms of issues involved, the EPA will be taking into consideration the comments that will be received on the draft guidance in making decisions concerning each document.

The draft of the guidance document is available online at http://www.epa.gov/airquality/sulfurdioxide/implement.html or within the associated docket, EPA-HQ-OAR-2010-1059.

Dated: October 25, 2011.
Mary Henigin,
Acting Director, Office of Air Quality Planning and Standards.

[FR Doc. 2011-27964 Filed 10-27-11; 8:45 am]

BILLING CODE 6560-50-P